DEPARTMENT OF HEALTH AND HUMAN SERVICES

Centers for Disease Control and Prevention

Advisory Committee to the Director (ACD), Centers for Disease Control and Prevention—Health Disparities Subcommittee (HDS)

In accordance with section 10(a)(2) of the Federal Advisory Committee Act (Pub. L. 92-463), the Centers for Disease Control and Prevention (CDC) announces the following meeting of the aforementioned subcommittee:

Time and Date: 9 a.m.-2 p.m. EDT, April 19, 2012.

Place: CDC, Building 21, Room 1204B, 1600 Clifton Road NE., Atlanta, Georgia 30333.

Status: Open to the public, limited only by the space available. The meeting room accommodates approximately 20 people. The public is welcome to participate during the public comment, which is tentatively scheduled from 1:30 p.m. until 2 p.m. This meeting is also available by teleconference. Please dial (866) 561-5277 and enter code 2238494.

Purpose: The Subcommittee will provide advice to the CDC Director through the ACD on strategic and other health disparities and health equity issues and provide guidance on opportunities for CDC.

Matters To Be Discussed: The agenda will include a presentation by the Institute of Medicine Roundtable on the Promotion of Health Equity and the Elimination of Health Disparities.

The agenda is subject to change as priorities dictate.

For Further Information Contact: Leandris Liburd, Ph.D., M.P.H., M.A., Designated Federal Officer, Health Disparities Subcommittee, Advisory Committee to the Director, CDC, 1600 Clifton Road NE., M/S K-77, Atlanta, Georgia 30333, telephone (770) 488-8200, email: LEL1@cdc.gov.

The Director, Management Analysis and Services Office, has been delegated the authority to sign Federal Register notices pertaining to announcements of meetings and other committee management activities, for both the Centers for Disease Control and Prevention and the Agency for Toxic Substances and Disease Registry.

Dated: March 22, 2012.
Elaine L. Baker,
Director, Management Analysis and Services Office, Centers for Disease Control and Prevention .

[FR Doc. 2012-7530 Filed 3-28-12; 8:45 am]

BILLING CODE 4163-18-P